DEPARTMENT OF THE INTERIOR

National Park Service

[NPS-WASO-NAGPRA-NPS0033920; PPWOCRADN0-PCU00RP14.R50000]

Notice of Inventory Completion: Indiana State Museum and Historic Site Corporation, State of Indiana, Indianapolis, IN

ACTION: Notice.

SUMMARY: The Indiana State Museum and Historic Sites Corporation (ISMHS) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to ISMHS. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to ISMHS at the address in this notice by June 17, 2022.

FOR FURTHER INFORMATION CONTACT: Michele Greenan, Indiana State Museum and Historic Sites Corporation, 650 West Washington Street, Indianapolis, IN 46214, telephone (317) 473-0836, email mgreenan@indianamuseum.org.

SUPPLEMENTARY INFORMATION: Notice is here given in accordance with the Native American Graves Protection and Repatriation Act (NAGPRA), 25 U.S.C. 3003, of the completion of an inventory of human remains under the control of the Indiana State Museum and Historic Sites Corporation, Indianapolis, IN. The human remains were removed from Harrison County, Floyd County, and Spencer County, IN.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by ISMHS professional staff in consultation with representatives of the Absentee-Shawnee Tribe of Indians of Oklahoma; Delaware Nation, Oklahoma; Delaware Tribe of Indians; Eastern Shawnee Tribe of Oklahoma; Miami Tribe of Oklahoma; Peoria Tribe of Indians of Oklahoma; and the Shawnee Tribe (hereafter referred to as “The Consulted Tribes”).

History and Description of the Remains

In February of 1992, following a report of looting, human remains representing, at a minimum, one individual were collected by staff of the Indiana Department of Historic Preservation and Archaeology (DHPA) from an area identified as being part of the Overflow Pond Site (12Hr12), in Harrison County, IN (DHPA accidental discovery #920001). In 2018, these human remains were re-discovered during an intensive inventory of collections housed at DHPA. The labels on the bag indicating site #12Hr12 and “east hole” likely reference a looter's pit. No other documentation for these human remains has been located. Following this re-discovery, DHPA research staff completed an inventory and transferred the human remains to ISMHS in May 2018. The human remains, consisting of only one bone (a prox. left 5th metatarsal), render age, sex, or possible pathology impossible. No known individual was identified. No associated funerary objects are present.

More recent work at 12Hr12 has identified it as an occupation site whose primary occupations occurred during the late Middle Archaic and Late Archaic periods (roughly 5000-1000 B.C.). The presence of extensive shell midden deposits and artifact assemblages, which include diagnostic point types and engraved bone pin fragments, point toward heavy use of the site during this time. Based on the archeological information from 12Hr12, the human remains of this individual belong within those Archaic occupations.

Archeological and historical information shows that the present-day Shawnee and their ancestral groups have a long history in Southern Indiana and the Ohio River Valley. Archeological information evidences a strong relationship between these Shawnee ancestral groups and Mississippian communities known as Fort Ancient, while historical information from the 17th through 19th centuries indicate intense Shawnee settlement along the Ohio River Valley throughout Ohio and Indiana. Based on this information, a relationship of shared group identify can be reasonably traced between the Native American group to which these human remains belonged and the Absentee-Shawnee Tribe of Indians of Oklahoma; Eastern Shawnee Tribe of Oklahoma; and the Shawnee Tribe (hereafter referred to as “The Tribes”).

Sometime prior to March 24, 2012, human remains representing, at minimum, one individual were removed from an area along the Ohio River bordering Harrison and Floyd Counties, IN. On March 24, 2012, Indiana Conservation officers approached a man who was seen kneeling along the shoreline of the Ohio River. He had with him a kneeling pad, a trowel, and a duffle bag. Caesar's Riverboat Casino, who owned the land where this incident occurred, told the officers that it had not granted the man permission to dig on the land. Following further discussions, the man consented to a search of his apartment. There, the officers located small bags and boxes containing pieces of stone, bone, and antler, as well as a small wooden box containing a note that indicated human remains might be present among the bones. The case was assigned Incident Report # INV-12-00076. While the localities where the above materials were removed cannot be determined with exactitude, interviews with the suspect revealed that the provenience of the human remains is an area along the Ohio River around the Harrison County/Floyd County border.

On June 18, 2012, Indiana Conservation officers took the human remains to the University of Indianapolis for assessment and to determine ancestry. University of Indianapolis researchers determined that four of the bone fragments were indeed human, and that most likely they were Native American. One of the bone fragments is a distal right humerus and the other three comprise a single proximal right femur. The bones were identified as belonging to an adult, but no determination of sex or possible pathology could be made. No known individual was identified. No associated funerary objects are present. On December 12, 2013, the human remains were transferred to ISMHS.

On December 13, 1999, human remains representing, at minimum, one individual were removed from an area that is most likely part of the Kramer site (12Sp7) in Spencer County, IN. The human remains were collected on-site by staff from the Indiana Department of Historic Preservation and Archaeology (DHPA) and the Division of Forestry (DHPA accidental discovery #200012). In 2017-2018, these human remains were re-discovered during an intensive inventory of collections housed at DHPA. The label on the bag identified their provenience as 12SP7 and that they came from the northeast side of a “grassy mound.” Following their re-discovery, DHPA research staff completed an inventory of these human remains and in May of 2018, transferred them to ISMHS. Three bone fragments are present—a right humerus fragment and two clavicle fragments (right and left sides). Given the fragmentary nature of the human remains, sex and age could not be determined. No known individual was identified. No associated funerary objects are present.

Site 12SP7 is known as Kramer or Kramer Mound, a known shell-midden site—“mound” references shell deposits—that has been subject to heavy looting in the past. Archeologically, the primary occupation of Kramer Mound spanned the later part of the Middle Archaic period through the Late/Terminal Archaic periods (roughly 5000-1000 B.C.), based on the presence of dense shell-middens combined with artifact types, including bone pins and concentrations of diagnostic points. This timeframe is further corroborated by two calibrated Carbon-14 dates of 4220 B.C. and 3760 B.C. Accordingly, the human remains from 12SP7 most likely belong to these Late-Middle Archaic through Late-Terminal Archaic occupations.

Archeological and historical information shows that the present-day Shawnee and their ancestral groups have a long history in Southern Indiana and the Ohio River Valley. Archeological information evidences a strong relationship between these Shawnee ancestral groups and Mississippian communities known as Fort Ancient, while historical information from the 17th through 19th centuries indicate intense Shawnee settlement along the Ohio River Valley throughout Ohio and Indiana. Based on this information, a relationship of shared group identify can be reasonably traced between the Native American group to which these human remains belonged and The Tribes.

Determinations Made by the Indiana State Museum and Historic Sites Corporation

Officials of the Indiana State Museum and Historic Sites Corporation have determined that:

• Pursuant to 25 U.S.C. 3001(9), the human remains described in this notice represent the physical remains of three individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Michele Greenan, Indiana State Museum and Historic Sites Corporation, 650 West Washington Street, Indianapolis, IN 46214, telephone (317) 473-0836, email mgreenan@indianamuseum.org, by June 17, 2022. After that date, if no additional requestors have come forward, transfer of control of the human remains to The Tribes may proceed.

The Indiana State Museum and History Sites Corporation is responsible for notifying The Consulted Tribes that this notice has been published.

Dated: May 10, 2022.
Melanie O'Brien,
Manager, National NAGPRA Program.

[FR Doc. 2022-10645 Filed 5-17-22; 8:45 am]

BILLING CODE 4312-52-P